SMALL BUSINESS ADMINISTRATION

[Disaster Declaration #14925 and #14926]

Florida Disaster #FL-00121

AGENCY: U.S. Small Business Administration.

ACTION: Notice.

SUMMARY: This is a Notice of the Presidential declaration of a major disaster for the State of Florida (FEMA-4283-DR), dated 10/17/2016.

Incident: Hurricane Matthew.

Incident Period: 10/03/2016 and continuing.

Effective Date: 10/17/2016.

Physical Loan Application Deadline Date: 12/16/2016.

Economic Injury (EIDL) Loan Application Deadline Date: 07/17/2017.

ADDRESSES: Submit completed loan applications to: U.S. Small Business Administration, Processing and Disbursement Center, 14925 Kingsport Road, Fort Worth, TX 76155.

FOR FURTHER INFORMATION CONTACT: A Escobar, Office of Disaster Assistance, U.S. Small Business Administration, 409 3rd Street SW., Suite 6050, Washington, DC 20416.

SUPPLEMENTARY INFORMATION: Notice is hereby given that as a result of the President's major disaster declaration on 10/17/2016, applications for disaster loans may be filed at the address listed above or other locally announced locations.

The following areas have been determined to be adversely affected by the disaster:

Primary Counties (Physical Damage and Economic Injury Loans): Flagler, Putnam, Saint Johns, Volusia.

Contiguous Counties (Economic Injury Loans Only):

Florida: Alachua, Bradford, Brevard, Clay, Duval, Lake, Marion, Orange, Seminole.

The Interest Rates are:

| Percent
For Physical Damage:
Homeowners With Credit Available Elsewhere | 3.125
Homeowners Without Credit Available Elsewhere | 1.563
Businesses With Credit Available Elsewhere | 6.250
Businesses Without Credit Available Elsewhere | 4.000
Non-Profit Organizations With Credit Available Elsewhere | 2.625
Non-Profit Organizations Without Credit Available Elsewhere | 2.625
For Economic Injury:
Businesses & Small Agricultural Cooperatives Without Credit Available Elsewhere | 4.000
Non-Profit Organizations Without Credit Available Elsewhere | 2.625

The number assigned to this disaster for physical damage is 149258 and for economic injury is 149260.

(Catalog of Federal Domestic Assistance Numbers 59002 and 59008)

Lisa Lopez-Suarez,
Acting Associate Administrator for Disaster Assistance.

[FR Doc. 2016-25691 Filed 10-24-16; 8:45 am]

BILLING CODE 8025-01-P